DEPARTMENT OF LABOR

Employment and Training Administration

Program Year (PY) 2005 Wagner-Peyser Act Final Planning Allotments

AGENCY: Employment and Training Administration, Labor.

ACTION: Notice.

SUMMARY: This Notice announces PY 2005 final planning allotments for PY 2005 (July 1, 2005 through June 30, 2006) for basic labor exchange activities provided under the Wagner-Peyser Act.

ADDRESSES: Address all comments concerning this notice to Anthony D. Dais, U.S. Department of Labor, Employment and Training Administration, 200 Constitution Avenue, NW., Room S-4231, Washington, DC 20210; or transmit via fax 202-693-3015 (this is not a toll-free number).

FOR FURTHER INFORMATION CONTACT: Anthony D. Dais, at phone number (202) 693-2784 (this is not a toll free number) or E-mail address: dais.anthony@dol.gov.

SUPPLEMENTARY INFORMATION: In accordance with section 6(b)(5) of the Wagner-Peyser Act, 29 U.S.C. 49e(b)(5), the Employment and Training Administration is publishing final planning allotments for each state for PY 2005 (July 1, 2005, through June 30, 2006). Preliminary planning estimates were published in Federal Register Volume 70, No. 57, page 15515 on March 25, 2005. Funds are distributed in accordance with formula criteria established in section 6(a) and (b) of the Wagner-Peyser Act. Civilian labor force (CLF) and unemployment data for Calendar Year 2004 are used in making the formula calculations.

The total amount of funds currently available for distribution is $746,301,440. The Secretary of Labor shall set aside up to 3 percent of the total available funds to assure that each state will have sufficient resources to maintain statewide One-Stop Career Centers' labor exchange activities, as required by section 6(b)(4) of the Act, 29 U.S.C. 49e(b)(4). In accordance with this provision, $21,849,043 is set aside for administrative formula allocation. These funds are included in the total planning allotment. The funds that are set aside are distributed in two steps to states, which have lost in relative share of resources from the prior year. In Step 1, states which have a CLF below one million and are below the median CLF density are maintained at 100 percent of their relative share of prior year resources. The remainder is distributed in Step 2 to all other states losing in relative share from the prior year, but which do not meet the size and density criteria for Step 1.

Postage costs incurred by states during the conduct of the Wagner-Peyser funded labor exchange activities are billed directly to the Department of Labor by the U.S. Postal Service. The total final planning allotment reflects $18,000,000, or 2.1 percent of the total amount available, withheld from distribution to finance postage costs. Pursuant to Section 7(b) of the Act, 29 U.S.C. 49f(b), ten percent of the total sums allotted to each state shall be reserved for use by the Governor to provide performance incentives for One-Stop Career Centers and programs; services for groups with special needs; and for the extra costs of exemplary models for delivering job services.

Differences between preliminary planning estimates and final planning allotments are caused by the use of calendar year 2004 data as opposed to the earlier data (12 months ending September 2004) used for preliminary planning estimates.

Dated at Washington, DC, this 18th day of May, 2005.
Emily Stover DeRocco,
Assistant Secretary, Employment and Training Administration.

BILLING CODE 4510-30-P

[FR Doc. 05-10840 Filed 5-31-05; 8:45 am]

BILLING CODE 4510-30-C